DEPARTMENT OF JUSTICE

Notice of Lodging of Consent Decree Pursuant to the Clean Water Act

In accordance with Departmental Policy, 28 C.F.R. 50.7, notice is hereby given that a Consent Decree that would resolve the liability of Artemissa Farms, Inc., the last of four defendants in United States of America v. Jane A. Young, et al. Civil Action No. 95-4202-JPG (S.D. Ill.), was lodged with the United States District Court for the Southern District of Illinois on March 15, 2000.

The proposed Consent Decree concerns alleged violations of the Clean Water Act, 33 U.S.C. 1311, as a result of the discharge of dredged and fill materials onto approximately 100 acres of wetlands, in Hamilton County, Illinois (the “Site”), which is alleged to constitute “waters of the United States.”

The Consent Decree permanently enjoins Artemissa Farms, Inc. from taking any actions, or causing others to take any actions, which result in the discharge of dredged or fill material into waters of the United States. The Consent Decree further requires Artemissa Farms, Inc. to pay $5,000 into an interest-bearing Registry Account of the United States District Court for the Southern District of Illinois, to be used to conduct a wetland restoration on the Site.

The Consent Decree also requires Artemissa Farms, Inc., subject to the right of prior approval by the United States Army Corps of Engineers, to convey the Site to an appropriate entity for conservation after the wetland restoration is completed. The purpose of the conveyance is to provide a conservation area in which no development, excavation, or other disturbance will occur. To achieve that end, the conveyance shall contain several restrictions that are set forth in the Consent Decree.

The Department of Justice will receive written comments relating to the Consent Decree for a period of thirty (30) days from the date of this notice. Comments should be addressed to the Assistant Attorney General, Environment and Natural Resources Division, United States Department of Justice, Attention: Steven E. Rusak, Senior Attorney, Environmental Defense Section, P.O. Box 23986, Washington, D.C. 20026-3986, and should refer to United States of America v. Jane A. Young, et. al., DJ Reference No. 90-5-1-6-580.

The proposed Consent Decree may be examined at the Clerk's Office, United States District Court, United States Courthouse, 301 West Main Street, Benton, Illinois 62812.

Letitia J. Grishaw,
Chief, Environmental Defense Section, Environment & Natural Resources Division, United States Department of Justice.

[FR Doc. 00-8601 Filed 4-6-00; 8:45 am]

BILLING CODE 4410-15-M